DEPARTMENT OF COMMERCE

National Oceanic and Atmospheric Administration

RIN 0648-XE412

North Pacific Fishery Management Council; Public Meeting

AGENCY: National Marine Fisheries Service (NMFS), National Oceanic and Atmospheric Administration (NOAA), Commerce.

ACTION: Notice of public meeting.

SUMMARY: The North Pacific Fishery Management Council's (Council) Scallop Plan Team will meet in Kodiak, AK.

DATES: The meeting will be held on Wednesday, February 17, 2016, from 9 a.m. to 5 p.m.

ADDRESSES: The meeting will be held at Fishermen's Hall, 403 Marine Way, Kodiak, AK 99615.

Council address: North Pacific Fishery Management Council, 605 W. 4th Ave., Suite 306, Anchorage, AK 99501-2252; telephone: (907) 271-2809.

FOR FURTHER INFORMATION CONTACT: Jim Armstrong, Council staff; telephone: (907) 271-2809.

SUPPLEMENTARY INFORMATION:

Agenda

Wednesday, February 17, 2016

The agenda includes updating the status of the Statewide Scallop Stocks and Stock Assessment and Fishery Evaluation (SAFE) report-catch specifications, update on Alaska Pacific University's Fisheries, Aquatic Science and Technology lab projects, update on new scallop assessment programs and a review of research priorities. The Agenda is subject to change, and the latest version will be posted at http://www.npfmc.org/.

Special Accommodations

The meeting is physically accessible to people with disabilities. Requests for sign language interpretation or other auxiliary aids should be directed to Shannon Gleason at (907) 271-2809 at least 7 working days prior to the meeting date.

Dated: January 25, 2016.
Tracey L. Thompson,
Acting Deputy Director, Office of Sustainable Fisheries, National Marine Fisheries Service.

[FR Doc. 2016-01679 Filed 1-27-16; 8:45 am]

BILLING CODE 3510-22-P